DEPARTMENT OF LABOR

Employment and Training Administration

[TA-W-64,453]

ThyssenKrupp Crankshaft Company, LLC, Fostoria Machining, a Subsidiary of ThyssenKrupp AG Including On-Site Leased Workers From Kelly Services, Manpower Temporary Agency, Express Personnel and Trillium Fostoria, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 23, 2009, applicable to workers of ThyssenKrupp Crankshaft Company, LLC, a subsidiary of ThyssenKrupp AG, Fastoria, Ohio. The notice was published in the Federal Resister on February 10, 2009 (74 FR 6653).

At the request of the State agency, the Department reviewed the certification for workers of the subject firm. The workers are engaged in activities related to the production of crankshafts.

New information shows that workers leased from Kelly Services, Manpower Temporary Agency, Express Personnel and Trillium were employed on-site by the Fostoria, Ohio location of ThyssenKrupp Crankshaft Company, LLC. The Department has determined that these workers were sufficiently under the control of and in support of the subject firm to be considered leased workers.

Based on these findings, the Department is amending this certification to include workers leased from Kelly Services, Manpower Temporary Agency, Express Personnel and Trillium working on-site at the Fostoria, Ohio location of ThyssenKrupp Crankshaft Company, LLC.

The amended notice applicable to TA-W-64,453 is hereby issued as follows:

All workers of ThyssenKrupp Crankshaft Company, Fostoria Machining, a subsidiary of ThyssenKrupp AG, including on-site leased workers from Kelly Services, Manpower Temporary Agency, Express Personnel and Trillium, Fostoria, Ohio, who became totally or partially separated from employment on or after November 5, 2007 through January 23, 2011 are eligible to apply for adjustment assistance under Section 223 of the Trade Act of 1974, and are also eligible to apply for alternative trade adjustment assistance under Section 246 of the Trade Act of 1974.

Signed in Washington, DC, this 13th day of January 2010.
Elliott S. Kushner,
Certifying Officer, Division of Trade Adjustment Assistance.

[FR Doc. 2010-1886 Filed 1-29-10; 8:45 am]

BILLING CODE 4510-FN-P